DEPARTMENT OF COMMERCE

National Oceanic and Atmospheric Administration

[I.D. 041701A]

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council) and its Dogfish Committee, Comprehensive Management Committee, Executive Committee, and Law Enforcement Committee with Advisors will hold a public meeting.

DATES: The meetings will be held between Tuesday May 8, 2001, and Thursday, May 10, 2001. See SUPPLEMENTARY INFORMATION for specific dates and times.

ADDRESSES: The meetings will be held at the Carousel Hotel, 11200 Coastal Highway, Ocean City, MD, telephone 410-524-1000.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION:

Meeting Dates

Tuesday, May 8, 2001, there will be a Dogfish Committee meeting (Mid-Atlantic Fishery Management Council section only) from 1-3 p.m. There will be a concurrent Comprehensive Management Committee meeting from 1-3 p.m.

Wednesday, May 9, 2001, the Executive Committee will meet from 8-11:30 a.m. There will be a concurrent Law Enforcement Committee meeting with Advisors from 8-11:30 a.m. Council will convene from 12:30-5:30 p.m. to receive a gear technology report and address Amendment 13 to the Summer Flounder, Scup, and Black Sea Bass FMP.

Thursday, May 10, 2001, the Council will convene to conduct regular business at 8 a.m. and is scheduled to adjourn at 4 p.m.

Meeting Agendas

Agenda items for the meetings are: the Dogfish Committee will review and consider Atlantic States Marine Fisheries Commission’s (ASMFC) dogfish actions; and, review and consider development of Amendment 1 to the Dogfish Fishery Management Plan (FMP). The Comprehensive Management Committee will review the outcome of its priority setting process; evaluate and define Council priorities; and, develop an action plan. The Executive Committee will address timing of election of new officers; discuss pending summer flounder facilitated meeting with NMFS, ASMFC and stakeholders; review Scientific and Statistical Committee membership for appointment and reappointment purposes; discuss summer flounder Framework 3 (biological reference points) schedule; and, seek NMFS commitment to expedite summer flounder Framework 3 for 2002 implementation if necessary. The Law Enforcement Committee will review and discuss state and Federal law enforcement capabilities, activities and concerns; develop a MAFMC “Enforcement Guideline”; review law enforcement concerns regarding marine protected areas; and, review and recommend Fishery Achievement Award recipients. The Council will receive a report from Manomet regarding its Gear Technology Study, review and consider comments received from an earlier scoping meeting regarding Amendment 13 (black sea bass); develop management options to be included in the public hearing document for Amendment 13; review and discuss possible adoption of enforcement guidelines; review and approve Framework 2 management measures regarding extension of Illex moratorium, Loligo exemption in Illex fishery, real time management of Loligo, and rule roll-over for mackerel; receive a special report on NMFS MARFIN Program; approve March minutes; receive organizational and committee reports, including the New England Council's report where the Council may address possible actions on herring, groundfish, monkfish, red crab, scallops, skates, and whiting. The Council may also address possible actions from the South Atlantic Council.

Although non-emergency issues not contained in this agenda may come before the Council for discussion, these issues may not be the subject of formal Council action during this meeting. Council action will be restricted to those issues specifically listed in this notice and any issues arising after publication of this notice that require emergency action under section 305(c) of the Magnuson-Stevens Fishery Conservation and Management Act, provided the public has been notified of the Council’s intent to take final actions to address such emergencies.

This meeting is physically accessible to people with disabilities. Requests for sign language interpretation or other auxiliary aids should be directed to Joanna Davis at 302-674-2331 at least 5 days prior to the meeting date.

Dated: April 17, 2001.
Richard W. Surdi,
Acting Director, Office of Sustainable Fisheries, National Marine Fisheries Service.

[FR Doc. 01-9983 Filed 4-20-01; 8:45 am]

BILLING CODE 3510-22-S